Proclamation 8812 of May 1, 2012

National Day of Prayer, 2012

By the President of the United States of America

A Proclamation

Prayer has always been a part of the American story, and today countless Americans rely on prayer for comfort, direction, and strength, praying not only for themselves, but for their communities, their country, and the world.

On this National Day of Prayer, we give thanks for our democracy that respects the beliefs and protects the religious freedom of all people to pray, worship, or abstain according to the dictates of their conscience. Let us pray for all the citizens of our great Nation, particularly those who are sick, mourning, or without hope, and ask God for the sustenance to meet the challenges we face as a Nation. May we embrace the responsibility we have to each other, and rely on the better angels of our nature in service to one another. Let us be humble in our convictions, and courageous in our virtue. Let us pray for those who are suffering around the world, and let us be open to opportunities to ease that suffering.

Let us also pay tribute to the men and women of our Armed Forces who have answered our country’s call to serve with honor in the pursuit of peace. Our grateful Nation is humbled by the sacrifices made to protect and defend our security and freedom. Let us pray for the continued strength and safety of our service members and their families. While we pause to honor those who have made the ultimate sacrifice defending liberty, let us remember and lend our voices to the principles for which they fought—unity, human dignity, and the pursuit of justice.

NOW, THEREFORE, I, BARACK OBAMA, President of the United States of America, do hereby proclaim May 3, 2012, as a National Day of Prayer. I invite all citizens of our Nation, as their own faith directs them, to join me in giving thanks for the many blessings we enjoy, and I call upon individuals of all faiths to pray for guidance, grace, and protection for our great Nation as we address the challenges of our time.

IN WITNESS WHEREOF, I have hereunto set my hand this first day of May, in the year of our Lord two thousand twelve, and of the Independence of the United States of America the two hundred and thirty-sixth.

[FR Doc. 2012-11028

Filed 5-3-12; 2:00 pm]

Billing code 3295-F2-P